DEPARTMENT OF TRANSPORTATION

Office of the Secretary

[Docket No. DOT-OST-2023-0012]

Notice of Establishment of the Intelligent Transportation Systems Program Advisory Committee and To Solicit Individuals Who Wish To Be Considered as Members

AGENCY: Office of the Secretary (OST), Department of Transportation (DOT).

ACTION: Notice of establishment of the Intelligent Transportation Systems Program Advisory Committee and to solicit individuals who wish to be considered as members.

SUMMARY: The Office of the Secretary of Transportation (OST) announces the intent to establish the Intelligent Transportation Systems Program Advisory Committee (ITSPAC). The Secretary has determined that establishing the ITSPAC is necessary and in the public interest. The OST is publishing this notice to solicit individuals who wish to be considered as members within the ITSPAC.

DATES: Nominations for ITSPAC members must be received on or before 30 days after posting.

ADDRESSES: All nomination materials should refer to the docket number above and be submitted by one of the following methods:

• Federal Rulemaking Portal: https://www.regulations.gov. Follow the online instructions for submitting comments.

• Mail: ITS JPO, U.S. Department of Transportation, 1200 New Jersey Avenue SE, East Building, Room E84-432 (HOIT), Washington, DC 20590-0001.

FOR FURTHER INFORMATION CONTACT: ITSPAC Designated Federal Officer, c/o Robert Sheehan, Program Manager, Intelligent Transportation Systems Joint Program Office (ITS JPO), ITSPAC@dot.gov or (202) 366-6817.

SUPPLEMENTARY INFORMATION: The Office of the Secretary of Transportation (OST) announces the intent to establish the ITSPAC as a Federal Advisory Committee in accordance with the Federal Advisory Committee Act (Pub. L. 92-463, 5 U.S.C. App. 2) to provide information, advice, and recommendations to the Secretary on matters relating to Intelligent Transportation Systems (ITS) program needs, objectives, plans, approaches, contents, and progress.

This notice announces the intent of the U.S. Secretary of Transportation (Secretary) to solicit members for the ITSPAC.

This notice is provided in accordance with the Federal Advisory Committee Act (FACA). Please see the ITSPAC website for additional information at. https://its.dot.gov/itspac.

Committee's Official Designation: The Committee's official designation is the Intelligent Transportation Systems Program Advisory Committee.

Authority: Pursuant to 23 U.S.C. 515 (h)(1) as amended by Sections 13008 and 25001 of the Infrastructure Investment and Jobs Act (November 16, 2021)—“The Secretary shall establish an Advisory Committee (referred to in this subsection as the `Advisory Committee') to advise the Secretary on carrying out sections 512 through 518.”. The U.S. Secretary of Transportation (Secretary) establishes ITSPAC as a Federal Advisory Committee in accordance with the Federal Advisory Committee Act (Pub. L. 92-463, 5 U.S.C. App. 2).

Scope of Activities: The ITSPAC is tasked with providing advice and recommendations to the Secretary on matters relating to ITS. The Secretary, or designee, shall present ITSPAC with tasks on matters relating to the study, development, and implementation of ITS. The Secretary may withdraw a task being considered by ITSPAC at any time. The ITSPAC shall act solely in an advisory capacity to the Secretary. Through the ITS JPO, the ITSPAC will make recommendations to the Secretary regarding ITS program needs, objectives, plans, approaches, contents, and progress. The Secretary may accept or reject a recommendation made by ITSPAC and is not bound to pursue any recommendation from ITSPAC. The ITSPAC will provide a forum for national discussion and recommendations on ITS activities and will work to promote the coordination of external ITS activities with those of the U.S. Department of Transportation (DOT).

Description of Duties: The ITSPAC shall be responsive to specific assignments and may conduct studies, inquiries, and workshops as the Secretary may authorize or direct. At a minimum, the ITSPAC will be expected to perform the following duties:

1. Provide input into the development of ITS aspects of the U.S. DOT Strategic Plan under 49 U.S.C. 6503.

2. Review, at least annually, areas of ITS programs and research being considered for funding by the Department, to determine:

a. whether these activities are likely to advance either the state-of-the-practice or state-of-the-art in ITS;

b. whether the ITS technologies are likely to be deployed by users, and if not, to determine the barriers to deployment; and,

c. the appropriate roles for Government and the private sector in investing in the programs, research, and technologies being considered.

Agency or official to whom the ITSPAC reports: The ITSPAC shall report to the Secretary of Transportation through the ITS JPO.

Support: The ITS JPO will serve as the sponsor of the ITSPAC and shall provide necessary administrative support. ITSPAC members will not be paid for their time spent on ITSPAC duties. Travel costs will be reimbursed for in-person meetings.

Designated Federal Officer: The ITS JPO shall appoint a full-time or permanent part-time employee to serve as the ITSPAC Designated Federal Officer (DFO) (or designee). The DFO will approve and call all committee and subcommittee meetings, prepare and approve all meeting agendas (in consultation with the ITSPAC Chair), attend all committee and subcommittee meetings, adjourn any meeting whenever such action is in the public interest, chair meetings when directed to do so by the Secretary of Transportation, and furnish detailed minutes of each meeting.

Duration and Termination: The ITSPAC charter shall terminate 3 years after its effective date unless renewed in accordance with FACA and other applicable requirements.

Estimated Number and Frequency of Meetings: The ITSPAC will meet no less than two (2) times each year. The ITSPAC may convene with the use of remote video conference technology. As necessary, special meetings and subcommittee meetings may be called by the DFO. Notice of each scheduled meeting shall be published in the Federal Register at least 15 calendar days prior to the date of the meeting. Notice shall include the agenda, date, time, location, and purpose of the meeting. All meetings shall be open to the public, except as provided under section 10(d) of FACA, as implemented by 41 CFR 101-6.10, the Government in the Sunshine Act (5 U.S.C. 522b(c)), 41 CFR part 102-3, and DOT Order 1120.3B. Members of the public shall be permitted to appear before or file statements with the ITSPAC.

Subcommittees: The ITS JPO shall be authorized to establish subcommittees. Subcommittees shall not work independently of the chartered ITSPAC and shall report all recommendations and advice to the full ITSPAC for deliberation and discussion. Subcommittees must not provide advice or work products directly to the Secretary or to the ITS JPO.

Recordkeeping: The records, reports, minutes, agenda, and other documents made available to or by the ITSPAC shall be handled in accordance with General Records Schedule 26, Item 2, and other approved agency records disposition schedule. The records shall be made available for public inspection and duplication in the ITS JPO at 1200 New Jersey Ave. SE, Room E84-412 (HOIT), Washington, DC 20590, or through the ITSPAC website at http://www.its.dot.gov/itspac.

Membership

Membership Balance Plan: The ITSPAC shall comprise not more than 25 individuals appointed by the Secretary of Transportation upon recommendation by the Deputy Assistant Secretary for Research and Technology. In order to reflect the diverse nature of the ITS program, ITSPAC membership shall be composed of individuals representing the categories of organizations listed is subparagraph 1 below. The ITS JPO may consult with applicable organizations to determine the appropriate individuals to be recommended. Also, due to the rapid evolution of ITS-related technologies and the emphasis that must be placed on deployment, ITSPAC membership shall reflect experience in and familiarity with future innovations in technology, business development, and strategic planning issues.

1. The ITSPAC membership shall be balanced between metropolitan and rural interests, and include, at minimum:

(a) a representative from a State highway department;

(b) a representative from a local highway department who is not from a metropolitan planning organization;

(c) a representative from a State, local, or regional transit agency;

(d) a representative from a State, local, or regional wildlife, land use, or resource management agency;

(e) a representative from a metropolitan planning organization;

(f) a representative of a national transit association;

(g) a representative of a national, State, or local transportation agency or association;

(h) a private sector user of intelligent transportation system technologies;

(i) a private sector developer of intelligent transportation system technologies, which may include emerging vehicle technologies;

(j) an academic researcher with expertise in computer science or another information science field related to intelligent transportation systems, and who is not an expert on transportation issues;

(k) an academic researcher who is a civil engineer;

(l) an academic researcher who is a social scientist with expertise in transportation issues;

(m) an academic researcher who is a biological or ecological scientist with expertise in transportation issues;

(n) a representative from a nonprofit group representing the intelligent transportation system industry;

(o) a representative from a public interest group concerned with safety;

(p) a representative of a labor organization;

(q) a representative of a mobility-providing entity;

(r) an expert in traffic management;

(s) a representative from a public interest group concerned with the impact of the transportation system on land use and residential patterns;

(t) a representative from a public interest group concerned with the impact of the transportation system on terrestrial and aquatic species and the habitat of those species; and

(u) members with expertise in planning, safety, telecommunications, and operations;

(v) an expert in cybersecurity; and

(w) an automobile manufacturer.

2. Members appointed solely for their expertise will be considered for appointment as Special Government Employees, and members appointed to represent specific stakeholder groups will be appointed as Representative Members.

3. To the extent practicable, ITSPAC membership will include senior policy-level representatives of their respective organizations. Additionally, to ensure that the recommendations of the ITSPAC have taken into account the needs of diverse groups served by the Department, membership shall include, to the extent practicable, individuals and/or organizations that represent minorities, women, and persons with disabilities.

Membership Terms:

(a) In general—The term of a member of the Advisory Committee shall be 3 years.

(b) Renewal—On expiration of the term of a member of the Advisory Committee, the member—

i. may be reappointed; or

ii. if the member is not reappointed under clause (i), may serve until a new member is appointed.

(b) Replacement—Nonparticipation by any member in ITSPAC activities will be sufficient reason for the appointment of a replacement member by the Secretary of Transportation.

Membership Nomination Process: The Secretary is seeking individual nominations for membership to the ITSPAC. Any interested person may nominate one or more qualified individuals for membership on ITSPAC. Self-nominations are also accepted. Nominations must include, in full, the following materials to be considered for membership. Failure to submit the required information may disqualify a candidate from the review process.

a. A biography, including professional and academic credentials.

b. A résumé or curriculum vitae, which must include relevant job experience, qualifications, as well as contact information (full legal name, email, telephone, and mailing address).

c. A one-page statement describing how the candidate will benefit the ITSPAC, considering the candidate's unique perspective.

d. Identify the stakeholder group that the candidate would represent and state the level of expertise in the stakeholder group that is being represented.

e. If applicable, state any previous experience on a Federal Advisory Committee.

The Secretary reserves the right to appoint members to serve on the ITSPAC who were not nominated in response to this notice if necessary to meet Departmental needs and in a manner to ensure an appropriate balance of membership.

Signed in Washington, DC, on January 24, 2023.
Robert Sheehan,
Program Manager, Intelligent Transportation Systems Joint Program Office.

[FR Doc. 2023-01769 Filed 1-27-23; 8:45 am]

BILLING CODE 4910-9X-P